DEPARTMENT OF THE INTERIOR

National Park Service

[NPS-WASO-NAGPRA-10346; 2200-1100-665]

Notice of Inventory Completion: University of Pennsylvania Museum of Archaeology & Anthropology, University of Pennsylvania, Philadelphia, PA

AGENCY: National Park Service, Interior.

ACTION: Notice.

SUMMARY: The University of Pennsylvania Museum of Archaeology & Anthropology has completed an inventory of human remains in consultation with the appropriate Indian tribe and has determined that there is a cultural affiliation between the human remains and a present-day Indian tribe. Representatives of any Indian tribe that believes itself to be culturally affiliated with the human remains may contact the Museum. Repatriation of the human remains to the Indian tribe stated below may occur if no additional claimants come forward.

DATES: Representatives of any Indian tribe that believes it has a cultural affiliation with the human remains should contact the Museum at the address below by July 12, 2012.

ADDRESSES: Dr. Richard Hodges, Director, University of Pennsylvania Museum of Archaeology & Anthropology, University of Pennsylvania, 3260 South Street, Philadelphia, PA 19104, telephone (215) 898-4050.

SUPPLEMENTARY INFORMATION: Notice is here given in accordance with the Native American Graves Protection and Repatriation Act (NAGPRA), 25 U.S.C. 3003, of the completion of an inventory of human remains in the possession of the University of Pennsylvania Museum of Archaeology & Anthropology, University of Pennsylvania, Philadelphia, PA. The human remains were removed from a site on the Platte River, near Overton, NE., and from an unknown site on or near the Missouri River, probably in Missouri or Nebraska.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Pennsylvania Museum of Archaeology & Anthropology's professional staff in consultation with the Pawnee Nation of Oklahoma.

History and Description of the Remains

On April 18, 1820, human remains representing, at minimum, one individual were removed from a Pawnee winter camp near the Platte River approximately six and half miles from Overton, in Dawson County, NE., by Dr. Thomas Say, zoologist for the Stephen H. Long Expedition to the Rocky Mountains. Upon the completion of the expedition, the human remains were sent to the Philadelphia Museum Company, also known as the Peale Museum. At an unknown date, the human remains were loaned to Dr. Samuel Morton for his study of human crania. Dr. Morton assigned the remains the catalogue number “P” and sometime between 1846 and 1849, Dr. Morton accessioned the cranium (No. 540) into his collections. From approximately 1830 until Dr. Morton's death in 1851, the Academy of Natural Science in Philadelphia provided storage space for much of Dr. Morton's collection, including the human remains. In 1853, the collection was purchased from Dr. Morton's estate and formally presented to the Academy. In 1966, Dr. Morton's collection, including these human remains (Museum accession number 97-606-540), was loaned to the University of Pennsylvania Museum of Archaeology and Anthropology. In 1997, the collection was formally gifted to the University of Pennsylvania Museum. No known individuals were identified. No associated funerary objects are present.

The human remains have been identified as Native American based on the specific cultural and geographic attribution in the museum records. Collector's records, museum documentation, and published sources (Morton 1839, 1840, and 1849; Meigs 1857) identify the human remains as those of a female Pawnee Indian who was killed in 1820 at a Pawnee winter village near the Platte River, in present day Nebraska. The museum documentation further dates the remains to the Historic Period. Scholarly publications indicate that the Platte River in Nebraska is the ancestral homeland of the Pawnee Indians before their removal to Oklahoma.

At an unknown date, human remains representing, at minimum, one individual were removed by an unknown individual from a site on or near the Missouri River in Missouri or Nebraska. At an unknown date, the human remains were transferred to Dr. B.B. Brown of St. Louis, Missouri. Sometime prior to 1849, Dr. Brown sent the human remains to Dr. Samuel Morton of Philadelphia, who accessioned the human remains as No. 1043. From approximately 1830 until Dr. Morton's death in 1851, the Academy of Natural Science in Philadelphia provided storage space for much of Dr. Morton's collection, including the human remains. In 1853, the collection was purchased from Dr. Morton's estate and formally presented to the Academy. In 1966, Dr. Morton's collection, including these human remains (Museum accession number 97-606-1043), was loaned to the University of Pennsylvania Museum of Archaeology and Anthropology. In 1997, the collection was formally gifted to the University of Pennsylvania Museum. No known individuals were identified. No associated funerary objects are present.

The human remains have been identified as Native American based on the specific cultural and geographic attribution in the museum records. Collector's records, museum documentation, and published sources (Morton 1849; Meigs 1857) identify the human remains as those of a female Pawnee Indian and date them to the Historic Period.

Determinations Made by the University of Pennsylvania Museum of Archaeology and Anthropology

Officials of the University of Pennsylvania Museum of Archaeology and Anthropology have determined that:

• Pursuant to 25 U.S.C. 3001(9), the human remains described in this notice represent the physical remains of two individuals of Native American ancestry.

• Pursuant to 25 U.S.C. 3001(2), there is a relationship of shared group identity that can be reasonably traced between the Native American human remain and the Pawnee Nation of Oklahoma.

Additional Requestors and Disposition

Representatives of any Indian tribe that believes itself to be culturally affiliated with the human remains should contact Director Dr. Richard Hodges, University of Pennsylvania Museum of Archaeology & Anthropology, University of Pennsylvania, 3260 South Street, Philadelphia, PA, 19104, telephone (215) 898-4050 before July 12, 2012. Repatriation of the human remains to the Pawnee Nation of Oklahoma may proceed after that date if no additional claimants come forward.

The University of Pennsylvania Museum of Archaeology and Anthropology is responsible for notifying the Pawnee Nation of Oklahoma that this notice has been published.

Dated: June 7, 2012.
David Tarler,
Acting Manager, National NAGPRA Program.

[FR Doc. 2012-14309 Filed 6-11-12; 8:45 am]

BILLING CODE 4312-50-P